DEPARTMENT OF HEALTH AND HUMAN SERVICES

Administration for Children and Families

Notice for April 2006 Advisory Committee Meeting

AGENCY: Office of Planning, Research and Evaluation, ACF, DHHS.

ACTION: Notice of meeting; Advisory Committee on Head Start Accountability and Educational Performance Measures.

SUMMARY: The Secretary of Health and Human Services, by authority of 42 U.S.C. 9836A, section 641A(b) of the Head Start Act, as amended (5 U.S.C. Appendix 2), has formed the Advisory Committee on Head Start Accountabilit5y and Educational Performance Measures (the Committee). The committee is governed by the provisions of Public Law 92-463, as amended (5 U.S.C. Appendix 2).

The function of the Committee is to help assess the progress of HHS in developing and implementing educational measures in the Head Start Program. This includes the Head Start National Reporting System (NRS). The Committee is to provide recommendations for integrating NRS with other ongoing assessments of the effectiveness of the program. The Committee will make recommendations as to how NRS and other assessment data can be included in the broader Head Start measurement efforts found in the Family and Child Experiences Survey (FACES), the National Head Start Impact Study, Head Start's Performance Based Outcome System, and the ongoing evaluation of the Early Head Start program.

DATES: April 24, 2006, 8:30 a.m.-5 p.m. (Dinner Recess). April 25, 2006, 8:30 a.m.-5 p.m.

Place: Residence Inn Bethesda Downtown, 7335 Wisconsin Avenue, Bethesda, MD 20814.

Agenda: The Committee will hear presentations related to existing Head Start evaluations and NRS implementation and will continue the discussions begun at the previous Committee meetings in 2005.

There will be a period set aside for public comments on April 24, 2006, from 10:30 a.m. to 11:30 a.m. Persons wishing to speak at the meeting must limit their comments to three minutes, but may also provide the Committee with supplementary written materials. Those wishing to speak at the meeting must sign up upon arrival at the meeting, and comments will be heard on a first come, first served basis until the comment period is filled. Approximately 15 speakers can be accommodated. If not all present can be accommodated during the presentation period, persons may submit written statements or papers to be considered by the Committee at a later time. On-site registration for those wishing to comment will open at 8 a.m. on April 24, 2006.

SUPPLEMENTARY INFORMATION: This meetings is open to the public. Persons wishing to bring written statements or papers focused on relevant, existing research with Head Start populations or on measures appropriate for low-income four- and five-year old children are welcome to do so. Individuals may also e-mail such documents to Secretaryadvisory-hs@esi-de.com of mail to: ESI, ATTN: Townley Knudson, Head Start Secretary's Advisory Committee, 7735 Old Georgetown Road, Suite 600, Bethesda, MD 20814.

Documents received shall be presented to the Committee. The Committee meeting records shall be kept at the Aerospace Center located at 901 D Street, SW., Washington, DC 20447. Information related to this meeting will be available on the Head Start Web site http://www.acf.hhs.gov/programs/hsb/budget/AdvCmteSep05/index.htm.

An interpreter for the deaf and hard of hearing will be available upon advance request by contacting Secretaryadvisory-hs@esi-dc.com.

Naomi Goldstein,
Director, Office of Planning, Research and Evaluation, Administration for Children and Families.

[FR Doc. 06-3152 Filed 3-31-06; 8:45 am]

BILLING CODE 4184-01-M